NATIONAL FOUNDATION FOR THE ARTS AND HUMANITIES

Institute of Museum and Library Services; Agency Information Collection Activities: Proposed Collection; Comment Requested

Action: 60-day notice of information collection under review: New Collection: Identification of Education and Training for Pre-/Paraprofessional Library Staff.

The Institute of Museum and Library Services (IMLS) has submitted the following information collection request for review and clearance in accordance with the Paperwork Reduction Act of 1995. This proposed information collection is published to obtain comments from the public. Comments are encouraged and will be accepted for “sixty days” until January 28, 2003. If you have any additional comments, suggestions, or need a copy of the proposed information collection instrument with instructions or additional information, please contact Mamie Bittner, Director, Office of Public and Legislative Affairs, Institute of Museum and Library Services, 1100 Pennsylvania Avenue, NW., Washington, DC 20506.

Written comments and suggestions from the public concerning the proposed collection of information should address one or more of the following:

(1) Evaluate whether the proposed collection of information is an appropriate function of the agency, including whether the information will have practical utility;

(2) Evaluate the accuracy of the agency's estimate of the burden of the proposed collection of information;

(3) Enhance the quality, utility, and clarity of the information to be collected; and

(4) Minimize the burden of the collection of information on those who are to respond, including through the use of appropriate automated, electronic, or other technological collection techniques or other forms of information technology, e.g., permitting electronic submission of responses.

Overview of This Information Collection

(1) Type of information collection: New collection.

(2) The title of the form/collection: IMLS Survey of Education Opportunities Available for Library Support/Paraprofessional Staff in the U.S.

(3) The agency form, if any, and the applicable component of the Department sponsoring the collection: No form number. Institute of Museum and Library Services.

(4) Affected public who will be asked or required to respond, as well as a brief abstract: Affected public includes all providers of education and training degree programs, certification, and individual courses appropriate for the support/paraprofessional-level worker in all types of libraries (e.g. public; academic, government; “special” in terms of subject or organization, such as not-for-profit association or corporate entity, school). This collection will gather information related to the content of the programs/courses, instructional modes or resources available to both instructors and students; student demographics, demographics concerning instructors; and existing methods for program evaluation. The data will then be used to advise the Institute of Museum and Library Services as to the availability of educational and training programs targeted to this level of library worker throughout the United States and significant gaps in terms of delivery of specific types of course work within regions of the country. Programs incorporating elements identified as contributing to success will be highlighted in a summary report.

(5) An estimate of the total number of respondents and the amount of time estimated for an average respondent to respond/reply: It is estimated that 200 respondents will each complete a Web-based survey in 30 minutes.

(6) An estimate of the total public burden (in hours) associated with the collection: An estimate of the total hour burden to conduct this survey is 75 hours.

If additional information is required, contact: Mamie Bittner, Director of Public and Legislative Affairs, Institute of Museum and Library Services, 1100 Pennsylvania Avenue, NW., Washington, DC 20506, or e-mail at mbittner@imls.gov.

Dated: November 25, 2002.
Mamie Bittner,
Director Public and Legislative Affairs, Institute of Museum and Library Services.

[FR Doc. 02-30249 Filed 11-27-02; 8:45 am]

BILLING CODE 7036-01-M